DEPARTMENT OF TRANSPORTATION

Federal Highway Administration

Rescinding the Notice of Intent for an Environmental Impact Statement (EIS): Harrison and Stone Counties, MS

AGENCY: Federal Highway Administration (FHWA), DOT.

ACTION: Rescind Notice of Intent to prepare an EIS.

SUMMARY: This notice rescinds the Notice of Intent for preparing an Environmental Impact Statement (EIS) for proposed highway, State Route 601, to provide a connection between Interstate 10 at the Canal Road Interchange and State Route 26 in the City of Wiggins, Harrison and Stone Counties, Mississippi. The original Notice of Intent for this EIS process was published in the Federal Register on August 12, 2005.

FOR FURTHER INFORMATION CONTACT: Claiborne Barnwell, Project Development Team Leader, Federal Highway Administration, Mississippi Division, 100 West Capitol Street, Suite 1026, Jackson, Mississippi 39269, Telephone: (601) 965-4217.

SUPPLEMENTARY INFORMATION:

Background

The Federal Highway Administration (FHWA) in cooperation with the Mississippi Department of Transportation (MDOT) initiated an Environmental Impact Statement (EIS) with a Notice of Intent August 12, 2005, to provide a connector road, to be built to interstate standards, between Interstate 10 and State Route 26.

Due to funding constraints the Notice of Intent is rescinded.

Andrew H. Hughes,
Division Administrator, Mississippi, Federal Highway Administration, Jackson, Mississippi.

[FR Doc. 2010-29141 Filed 11-19-10; 8:45 am]

BILLING CODE M